DEPARTMENT OF ENERGY

Federal Energy Regulatory Commission

[Project No. 2678-006-CA]

Pacific Gas and Electric Company; Notice of Availability of Environmental Assessment

In accordance with the National Environmental Policy Act of 1969 and the Federal Energy Regulatory Commission's (Commission) regulations, 18 CFR part 380 (Order No. 486, 52 FR 47897), the Office of Energy Projects has reviewed the application for a subsequent license for the Narrows No. 2 Transmission Line Project and has prepared an Environmental Assessment (EA). The project occupies 1.28 acres of public land managed by the United States Army Corps of Engineers and provides service from the Yuba County Water Agency's Narrows No. 2 Powerhouse (a component of FERC Project No. 2246), in Yuba County, to PG&E's Narrows No. 2 Substation, in Nevada County.

The EA contains staff's analysis of the potential environmental effects of the project and alternatives and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

For further information, contact Jim Fargo at (202) 502-6095.

Dated: March 4, 2015.
Kimberly D. Bose,
Secretary.

[FR Doc. 2015-05688 Filed 3-12-15; 8:45 am]

BILLING CODE 6717-01-P